DEPARTMENT OF DEFENSE

Department of the Army; Corps of Engineers

Notice of Intent To Prepare a Joint Environmental Impact Statement and Environmental Impact Report for Lower American River Common Features Project, Mayhew Levee Raise

AGENCY: Department of the Army, U.S. Army Corps of Engineers, DoD.

ACTION: Notice of intent.

SUMMARY: The action being taken is an Environmental Impact Statement/Environmental Impact Report (EIS/EIR) to address potential improvements to the existing flood management systems along the American River. This portion of the Lower American River Common Features project is located in Sacramento County. The Corps of Engineers is in the process of completing slurry wall work on approximately 26 miles of levee along the American River. In 1996, Congress authorized the raising of levees along the American River in the Mayhew Drain area under the American River Common Features project. Subsequently, section 366 of the Water Resources Development Act of 1999 authorized the raising of the left bank of the non-Federal levee upstream of the Mayhew Drain for a distance of 4,300 feet and the installation of gates to the existing Mayhew Drain culvert.

DATES: A public meeting will be held on May 23, 2005, from 6 p.m. to 8 p.m., Sacramento, CA.

ADDRESSES: Send written comments and suggestions concerning this study to Ms. Elizabeth Holland, U.S. Army Corps of Engineers, Sacramento District, Attn: Planning Division (CESPK-PD-R), 1325 J Street, Sacramento, CA 95814. Requests to be placed on the mailing list should also be sent to this address. The public meeting address is O.W. Erlewine School, 2441 Stansberry Way, Sacramento, CA 95826-2120.

FOR FURTHER INFORMATION CONTACT: Ms. Elizabeth Holland, e-mail at Elizabeth.g.Holland@usace.army.mil, telephone (916) 557-6763 or fax (916) 557-7856.

SUPPLEMENTARY INFORMATION: 1. Proposed Action: The Corps of Engineers, the State of California, and the Sacramento Area Flood Control Agency are conducting a study on the American River flood control system. The study focuses on ways to improve flood protection to the city of Sacramento, including raising the levees along the river in the Mayhew Drain area.

2. Alternatives: The draft EIS/EIR will address an array of alternatives. Alternatives analyzed during the investigation will include no action, a full levee with a 3:1 slope, a levee with a 3:1 slope and partial floodwall, and a levee with a 2:1 slope and partial floodwall.

3. Scoping Process: a. The project study plan provides for a scoping meeting to be held in May 2005 (see DATES & ADDRESSES). The Corps has initiated a process to involve concerned individuals, and local, State, and Federal agencies.

b. Significant issues to be analyzed in depth in the draft EIS/EIR include adverse effects on vegetation and wildlife resources, special-status species, esthetics, cultural resources, recreation, land use, air quality, and cumulative effects of related projects in the study area.

c. The Corps will consult with the State Historic Preservation Officer to comply with the National Historic Preservation Act, and the U.S. Fish and Wildlife Service to provide a Fish and Wildlife Coordination Act Report as an appendix to the draft EIS/EIR.

d. A 45-day public review period will be provided for individuals and agencies to review and comment on the draft EIS/EIR. All interested parties are encouraged to respond to this notice and provide a current address if they wish to be notified of the draft EIS/EIR circulation.

4. Availability: The draft EIS/EIR is scheduled to be available for public review and comment late in calendar year 2005.

Dated: April 20, 2005.
Mark W. Connelly,
Lt. Colonel, Corps of Engineers, Deputy District Engineer.

[FR Doc. 05-8666 Filed 4-29-05; 8:45 am]

BILLING CODE 3710-EZ-P